FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—12/01/2008
20090097 | Bank of America Corporation | Ray Investment S.a.r.l. | Ray Investment S.a.r.l.
20090122 | Electro Scientific Industries, Inc | Zygo Corporation | Zygo Corporation.
20090124 | Hamburgische Seefahrtsbeteiligung “Albert BalIin” GmbH | TUI AG | Hapag-Lloyd Aktiengesellschaft.
20090137 | Riverside Capital Appreciation Fund V, L.P | Alan Bowden | Sencore, Inc.
20090144 | Esterline Technologies Corporation | NMC Group, Inc. | NMC Group, Inc.
20090156 | Insituform Technologies, Inc | The Bayou Companies, LLC | The Bayou Companies, LLC.
20090157 | Audax Private Equity Fund III LP | Summerset Enterprises, L.P | United Recovery Systems, LP URS Management, LLC.
TRANSACTIONS GRANTED EARLY TERMINATION—12/02/2008
20090134 | Precision Castparts Corp | Levine Leichtman Capital Partners III, L.P | Hackney Ladish Holding Corp.
20090147 | Ryan Kavanaugh | General Electric Company | Rogue Pictures.
20090149 | Odyssey Investment Partners Fund III, L.P | SM&A | SM&A.
20090162 | Texas Farm Bureau | Southern Farm Bureau Casualty Insurance Company | Texas Farm Bureau Casualty Bureau Insurance Company.
TRANSACTIONS GRANTED EARLY TERMINATION—12/03/2008
20090016 | Blue Cross and Blue Shield of Florida, Inc | Florida Health Care Plan, Inc | NAC Health Plan, Inc.
20090108 | Silver Lake Partners II TSA, L.P. | The NASDAQ OMX Group, Inc | The NASDAQ OMX Group, Inc.
20090140 | Allianz SE | The Hartford Financial Services Group, Inc | The Hartford Financial Services Group, Inc.
20090155 | General Dynamics Corporation | Carlyle Partners IV, L.P. | AXT Acquisition Holdings, Inc.
TRANSACTIONS GRANTED EARLY TERMINATION—12/05/2008
20081392 | Republic Services, Inc | Allied Waste Services, Inc | Allied Waste Services, Inc.
20090105 | Hellman & Friedman Capital Partners VI, L.P. | Jupitermedia Corporation | Jupiterimages Corporation.
20090110 | AT&T Inc | Wayport, Inc | Wayport, Inc.
20090161 | 2003 TIL Settlement | Tim & Stacy Welu | Paisley Consulting Group, Inc.
20090165 | ProAssurance Corporation | Podiatry Insurance Company of America, a Mutual Company | Podiatry Insurance Company of America, a Mutual Company.
20090166 | CBIZ, Inc | Mark D. Garten | Mahoney Cohen & Company, CPA, P.C. Mahoney Cohen Consulting Corp.
20090167 | Eaton Vance Corp | Martin D. Sass | M.D. Sass Tax Advantaged Bond Strategies, LLC.
20090169 | JAKKS Pacific, Inc | France Private Equity II | Cesar Asia Limited Cesar S.A. Disguise Holding Corporation Disguise, Inc.
20090173 | QBE Insurance Group Limited | Trident III, LLP | ZC Sterling Corporation.
20090174 | ITOCHU Corporation | General Electric Company | Fox Energy Company, LLC.
20090176 | United Technologies Corporation | Siamak Katal | Detection Logic Fire Protection, Inc.
20090177 | TransDigm Group Incorporated | General Electric Company | Aircraft Parts Corporation.
20090183 | Tenaska Energy, Inc | American International Group, Inc | TMV Holdings, LLC.
20090184 | Tenaska Energy Holdings LLC | American International Group, Inc | TMV Holdings, LLC.
TRANSACTIONS GRANTED EARLY TERMINATION—12/08/2008
20090115 | Fairholme Funds, Inc | AmeriCredit Corp | AmeriCredit Corp.
20090145 | Samsung SDI Co., Ltd | Samsung Mobile Display Co., Ltd | Samsung Mobile Display Co., Ltd.
TRANSACTIONS GRANTED EARLY TERMINATION—12/09/2008
20081463 | Verizon Communications Inc | Atlantis Holdings LLC | Alltel Corporation.
20090148 | Clarian Health Partners, Inc | Cardinal Health System, Inc | Ball Memorial Hospital, Inc.
20090175 | Partners Limited | Norbord Inc | Norbord Inc.
TRANSACTIONS GRANTED EARLY TERMINATION—12/10/2008
20090180 | Windjammer Senior Equity Fund III, L.P. | SPC Partners II, L.P | S.T. Specialty Foods, Inc.
20090187 | Compass Group PLC | Kimco Facilities Services Corporation | Kimco Facilities Services Corporation.
TRANSACTIONS GRANTED EARLY TERMINATION—12/11/2008
20090182 | Prime Financial Credit Union | Guardian Credit Union | Guardian Credit Union.
TRANSACTIONS GRANTED EARLY TERMINATION—12/12/2008
20090190 | Nestucca Forests LLC | Stimson Lumber Company, Inc | Stimson Lumber Company, Inc.
20090192 | Sierra Wireless, Inc | Wavecom S.A | Wavecom S.A.
20090196 | New Mountain Partners III, L.P | Tygris Commercial Finance Group, Inc | Tygris Commercial Finance Group, Inc.
20090197 | TPG Partners VI, L.P | Tygris Commercial Finance Group, Inc | Tygris Commercial Finance Group, Inc.
20090199 | Platinum Equity Capital Partners II, L.P. | Stephen J. Williams | International Offshore Services, LLC.

FOR FURTHER INFORMATION CONTACT: Sandra M. Peay, Contact Representative or Renee Hallman, Contact Representative, Federal Trade Commission, Premerger Notification Office, Bureau of Competition, Room H-303, Washington, DC 20580, (202) 326-3100.

By Direction of the Commission.
Donald S. Clark,
Secretary.

[FR Doc. E8-30872 Filed 12-30-08; 8:45 am]

BILLING CODE 6750-01-M